DEPARTMENT OF TRANSPORTATION

Federal Aviation Administration

14 CFR Part 71

[Docket No. FAA 2001-10527; Airspace Docket No. ASD 02-AGL-16]

RIN 2120-AA66

Revision of Jet Route

AGENCY: Federal Aviation Administration (FAA), DOT.

ACTION: Final Rule.

SUMMARY: This action realigns Jet Route 211 (J-211) southeast of the Johnstown, PA, Very High Frequency Omnidirectional Range/Tactical Air Navigation (VORTAC) by realigning it clockwise by one degree. The realignment is necessary because the Johnstown 129° radial has become unusable. The FAA is taking this action to enhance aviation safety in the Johnstown, PA, area.

EFFECTIVE DATE: 0901 UTC, January 23, 2003.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

Aircraft navigating on J-211 currently use the 129° radial of the Johnstown, PA, VORTAC. A review by the FAA has revealed that the 129° radial of the Johnstown, PA, VORTAC has become unusable. This action revises J-211 from the Johnstown 129° radial to the Johnstown 130° radial. The FAA is taking this action to enhance aviation safety in the affected area.

The Rule

This amendment to 14 CFR part 71 realigns a segment of J-211 southeast of the Johnstown, PA, VORTAC by moving it one degree from the Johnstown 129° radial to the Johnstown 130° radial. This action is necessary to ensure the safety of aircraft navigating on J-211. Because this action is needed for safety reasons, I find that notice and public procedure under 5 U.S.C. 553(b) are impracticable and contrary to the public interest.

The FAA has determined that this regulation only involves an established body of technical regulations for which frequent and routine amendments are necessary to keep them operationally current. It, therefore—(1) is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Jet routes are published in paragraph 2004 of FAA Order 7400.9K dated August 30, 2002, and effective September 16, 2002, which is incorporated by reference in 14 CFR 71.1. The jet routes listed in this document will be published subsequently in the Order.

List of Subjects in 14 CFR Part 71

Airspace, Incorporation by reference, Navigation (air).

Adoption of Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9K, Airspace Designations and Reporting Points, dated August 30, 2002, and effective September 16, 2002, is amended as follows:

Paragraph 2004 Jet Routes

* * * * *

J-211 [Revised]

From Youngstown, OH; Johnstown, PA; INT Johnstown 130° and Westminster, MD, 292° radials; to Westminster.

* * * * *

Issued in Washington, DC, on November 22, 2002.
Reginald C. Matthews,
Manager, Airspace and Rules Division.

[FR Doc. 02-30326 Filed 11-29-02; 8:45 am]

BILLING CODE 4910-13-P